DEPARTMENT OF THE INTERIOR

National Park Service

[NPS-PWR-CIRO-33975; PS.SPWLA0122.00.1]

Minor Boundary Revision at City of Rocks National Reserve

AGENCY: National Park Service, Interior.

ACTION: Notification of boundary revision.

SUMMARY: Notice is hereby given that the boundary of City of Rocks National Reserve (Reserve) is modified to include Tract No. 101-13 containing 100 acres of fee land, Tract No. 101-14 containing 4.63 acres of a road access easement, and Tract 101-15 containing 0.45 acres of an access easement for providing vehicular access to staff and visitors to the northeastern area of the park. The inclusion and acquisition of this property will enable the National Park Service (NPS) to provide recreational access to park visitors at the northeastern boundary of the Reserve. The fee lands and road easements will also allow NPS to better manage the lands and preserve the unique rock formation in this area of the Reserve.

DATES: The effective date of this boundary revision is November 2, 2022.

ADDRESSES: The map depicting this boundary revision is available for inspection at the following locations: National Park Service, Interior Regions 8, 9, 10, and 12, Land Resources Program Center, 168 South Jackson Street, Seattle, WA 98104.

FOR FURTHER INFORMATION CONTACT: Chief Realty Officer Truda Stella, National Park Service, Interior Regions 8, 9, 10 & 12, Land Resources Program Center, 168 South Jackson Street, Seattle, WA 98104-2853 or pwr_realty_officer@nps.gov.

SUPPLEMENTARY INFORMATION: 54 U.S.C. 100506(c)(l)(B) provides that, after notifying the House Committee on Natural Resources and the Senate Committee on Energy and Natural Resources, the Secretary of the Interior is authorized to make this boundary revision upon publication of notice in the Federal Register. The Committees have been notified of this boundary revision. This notice hereby provides that the boundary of City of Rocks National Reserve is revised, effective as of the date of this notice, to include approximately 105.08 acres of land of privately owned land within City of Rocks National Reserve, Cassia County, Idaho. The boundary revision is depicted on Map No. 003/177112, dated May 2022.

Frank Lands,
Regional Director, Interior Regions 8, 9, 10, and 12.

[FR Doc. 2022-23835 Filed 11-1-22; 8:45 am]

BILLING CODE 4312-52-P